DEPARTMENT OF ENERGY

Federal Energy Regulatory Commission

[Docket No. RP03-533-000]

Northern Natural Gas Company; Notice of Proposed Changes in FERC Gas Tariff

July 8, 2003.

Take notice that on July 1, 2003, Northern Natural Gas Company (Northern) tendered for filing to become part of its FERC Gas Tariff, Fifth Revised Volume No. 1, the following tariff sheets proposed to be effective on July 10, 2003:

Sixth Revised Sheet No. 146.

Third Revised Sheet No. 227.

1st Revised Sixth Revised Sheet No. 267.

Northern states that during the month of June 2003, Gas Daily has not published price discovery point information for Northern, MIDs 1-6 and Northern, Tx.-Okla-Kan (TOK) consistently on a daily basis. Therefore, Northern proposes to revise the above referenced tariff sheets to substitute the Gas Daily El Paso, Permian Basin and Panhandle, Tx.-Okla. pricing information where Northern, MIDs 1-6 and Northern, TOK pricing has been previously referenced.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 14, 2003.

Magalie R. Salas,
Secretary.

[FR Doc. 03-17680 Filed 7-11-03; 8:45 am]

BILLING CODE 6717-01-P